DEPARTMENT OF TRANSPORTATION

Coast Guard

33 CFR Part 117

[CGD01-00-245]

Drawbridge Operation Regulations: Rahway River, NJ

AGENCY: Coast Guard, DOT.

ACTION: Notice of temporary deviation from regulations.

SUMMARY: The Commander, First Coast Guard District, has issued a temporary deviation from the drawbridge operation regulations governing the operation of the Conrail Bridge, at mile 2.0, across the Rahway River at Linden, New Jersey. This deviation allows the bridge owner to keep the bridge in the closed position from 7 a.m. on November 20, 2000, through 7 p.m. on November 21, 2000. This action is necessary to facilitate maintenance at the bridge.

DATES: This deviation is effective from November 20, 2000, to November 21, 2000.

FOR FURTHER INFORMATION CONTACT: Judy Yee, Project Officer, First Coast Guard District, at (212) 668-7165.

SUPPLEMENTARY INFORMATION: The Conrail Bridge, at mile 2.0, across the Rahway River, has a vertical clearance of 6 feet at mean high water, and 11 feet at mean low water in the closed position. The existing drawbridge operating regulations are listed at 33 CFR 117.743.

The bridge owner, Consolidated Rail Corporation (Conrail), requested a temporary deviation from the drawbridge operating regulations to facilitate the necessary maintenance for upgrades to the operating system at the bridge. This deviation from the operating regulations allows the bridge owner to keep the bridge in the closed position from 7 a.m. on November 20, 2000, through 7 p.m. on November 21, 2000. Vessels that can pass under the bridge without an opening may do so at all times during the closed period.

In accordance with 33 CFR 117.35(c), this work will be performed with all due speed in order to return the bridge to normal operation as soon as possible. This deviation from the operating regulations is authorized under 33 CFR 117.35.

Dated: November 8, 2000.
Gerald M. Davis,
Captain, U.S. Coast Guard, Acting Commander, First Coast Guard District.

[FR Doc. 00-29804 Filed 11-20-00; 8:45 am]

BILLING CODE 4910-15-U